DEPARTMENT OF LABOR

Employment and Training Administration

Investigations Regarding Certifications for Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 7, 2005.

Interested persons are invited to submit written comments regarding the subject matter of the investigations to the Director, Division of Trade Adjustment Assistance, at the address shown below, not later than March 7, 2005.

The petitions filed in this case are available for inspection at the Office of the Director, Division of Trade Adjustment Assistance, Employment and Training Administration, U.S. Department of Labor, Room C-5311, 200 Constitution Avenue, NW., Washington, DC 20210.

Signed in Washington, DC, this 16th day of February, 2005.
Linda G. Poole,
Acting Director, Division of Trade Adjustment Assistance.

Appendix—Petitions Instituted Between 01/03/2005 and 02/01/2005
TA-W | Subject firm (petitioners) | Location | Date of institution | Date of petition | TA-W | Subject firm (petitioners) | Location | Date of institution | Date of petition
56,268 | Gemini Textile Screenprint Inc. (Wkrs) | Battleboro, NC | 01/03/2005 | 01/03/2005
56,269 | STS Weaving LLC (Comp) | St. Albans, VT | 01/03/2005 | 12/29/2004
56,270 | ExxonMobil Chemical Co (Wkrs) | Macedon, NY | 01/03/2005 | 12/20/2004
56,271 | Houze Glass Corporation (USWA) | Point Marion, PA | 01/03/2005 | 12/22/2004
56,272 | Geotrac, Inc. (NPW) | Norwalk, OH | 01/03/2005 | 12/13/2004
56,273 | National Spinning Operation, LLC (Comp) | Washington, NC | 01/03/2005 | 12/20/2004
56,274 | Shane Hunter (Wkrs) | San Francisco, CA | 01/03/2005 | 12/15/2004
56,275 | House of Brussels Chocolates (Wkrs) | San Francisco, CA | 01/03/2005 | 12/14/2004
56,276 | Trinity Marine Products (State) | Madisonville, LA | 01/03/2005 | 12/22/2004
56,277 | Glenshaw Glass Corporation (USWA) | Glenshaw, PA | 01/03/2005 | 12/22/2004
56,278 | Lexington Die Casting (Comp) | Lakewood, NY | 01/03/2005 | 12/21/2004
56,279 | Raytek Corp. (State) | Santa Cruz, CA | 01/03/2005 | 12/14/2004
56,280 | Hutchinson Seal (State) | Downey, CA | 01/03/2005 | 12/09/2004
56,281 | BASF Corporation (Comp) | Morganton, NC | 01/03/2005 | 12/13/2004
56,282 | Nova Trading (Comp) | Monroe, NC | 01/04/2005 | 12/14/2004
56,283 | Service Manufacturing (Wkrs) | Weslaco, TX | 01/04/2005 | 12/13/2004
56,284 | Hickory Manor House (Wkrs) | Sparta, NC | 01/04/2005 | 12/14/2004
56,285 | Arcina, LLC (Wkrs) | State College, PA | 01/04/2005 | 01/03/2005
56,286 | Duracell (Wkrs) | Lexington, NC | 01/04/2005 | 12/30/2004
56,287 | Donnkenny Apparel, Inc. (NPW) | Wytheville, VA | 01/04/2005 | 12/16/2004
56,288 | RBX Industries (State) | Colt, AR | 01/05/2005 | 01/04/2005
56,289 | Box USA Group (State) | Baltimore, MD | 01/05/2005 | 01/05/2005
56,290 | Northeast Wood Turning, Inc. (Comp) | West Farmington, ME | 01/05/2005 | 12/30/2004
56,291 | Stimson Lumber Company (State) | Forest Grove, OR | 01/06/2005 | 01/04/2005
56,292 | Maui Pineapple Co., Ltd. (ILWU) | Kahului, HI | 01/06/2005 | 12/15/2004
56,293 | Dana Corporation (Comp) | Statesville, NC | 01/06/2005 | 12/27/2004
56,294 | Marash Advantage America (NPW) | Spartanburg, SC | 01/06/2005 | 12/31/2004
56,295 | Springs Industries (Comp) | Sardis, MS | 01/06/2005 | 01/05/2005
56,296 | Charles Craft (Comp) | Laurinburg, NC | 01/06/2005 | 01/05/2005
56,297 | Dicey Mills, Inc. (Wkrs) | Shelby, NC | 01/06/2005 | 01/03/2005
56,298 | GST Autoleather (UNITE) | Fleetwood, PA | 01/06/2005 | 01/05/2005
56,299 | Atlas Textile Co., Inc. (Comp) | Commerce, CA | 01/06/2005 | 01/04/2005
56,300 | DOBY, Inc. (State) | Newark, NJ | 01/07/2005 | 01/07/2005
56,301 | Diamond Products (State) | St. Paul, MN | 01/07/2005 | 01/07/2005
56,302 | Tillman of Yuma (Wkrs) | Yuma, AZ | 01/07/2005 | 01/04/2005
56,303 | Alcatel USA (Wkrs) | Plano, TX | 01/07/2005 | 01/04/2005
56,304 | DIMON, Inc. (Comp) | Rocky Mount, NC | 01/07/2005 | 01/03/2005
56,305 | Legend Softballs, Inc. (Comp) | Tullahoma, TN | 01/07/2005 | 01/06/2005
56,306 | Jerome Fashions (Wkrs) | S. Elmonte, CA | 01/07/2005 | 01/06/2005
56,307 | Carrier Corp. (SMWIA) | Morrison, TN | 01/07/2005 | 01/06/2005
56,308 | CFM Home Products (State) | Skokie, IL | 01/07/2005 | 01/06/2005
56,309 | Kane Magnetics International (Comp) | Kane, PA | 01/10/2005 | 01/07/2005
56,310 | Howell Industries, Inc. (Comp) | Lapeer, MI | 01/10/2005 | 01/07/2005
56,311 | Warp Knit Mills, Inc. (Comp) | Lincolnton, NC | 01/10/2005 | 01/03/2005
56,312 | CRG-Computer Net Resource Group (NPC1) | Hight Point, NC | 01/10/2005 | 01/07/2005
56,313 | Howmet Aluminum Castings (Comp) | Hillsboro, TX | 01/10/2005 | 01/07/2005
56,314 | Southern Home Accents (Wkrs) | Abbeville, SC | 01/10/2005 | 01/05/2005
56,315 | Hitachi Magnetics Corp. (Comp) | Edmore, MI | 01/10/2005 | 01/03/2005
56,316 | American Standard, Inc. (USWA) | Salem, OH | 01/10/2005 | 01/10/2005
56,317 | Chelsea Grinding Co. (State) | Jackson, MI | 01/10/2005 | 12/21/2004
56,318 | Automatic Lathe Cutter Head (Wkrs) | Hickory, NC | 01/12/2005 | 01/10/2005
56,319 | Diversified Engraving Stamp & Machine Co (Wkrs) | Akron, OH | 01/12/2005 | 12/22/2004
56,320 | Georgia Gulf Corp. (USWA) | Tiptonville, TN | 01/12/2005 | 12/14/2004
56,321 | Honeywell Technology Solutions (NPS) | Rocky Mount, NC | 01/12/2005 | 12/14/2004
56,322 | Roseburg Forest Products (WCIW) | Roseburg, OR | 01/12/2005 | 01/11/2005
56,323 | Springs Industries (Comp) | Anderson, SC | 01/12/2005 | 01/05/2005
56,324 | Southern Wood Products (Comp) | Sparta, TN | 01/12/2005 | 01/20/2005
56,325 | Nokia, Inc. (NPW) | Melbourne, FL | 01/12/2005 | 01/11/2005
56,326 | Electric Cords, Inc. (Comp) | Lebanon, KY | 01/12/2005 | 12/15/2004
56,327 | YSD 2004, Inc. (Wkrs) | Austratown, OH | 01/12/2005 | 12/29/2005
56,328 | Art Leather Manufacturing Co., Inc. (Comp) | San Diego, CA | 01/12/2005 | 01/06/2005
56,329 | Spherion (Wkrs) | Las Vegas, NV | 01/12/2005 | 01/10/2005
56,330 | Iberia Sugar Cooperative, Inc. (Comp) | New Iberia, LA | 01/12/2005 | 01/05/2005
56,331 | Peerless Lighting Corp. (State) | Berkeley, CA | 01/12/2005 | 01/05/2005
56,332 | Thomson, Inc. (Comp) | Lancaster, PA | 01/13/2005 | 12/27/2004
56,333 | WestPoint Stevens (Comp) | Clemson, SC | 01/13/2005 | 01/11/2005
56,334 | E.H. Hall Co., Inc. (Comp) | Westfield, PA | 01/13/2005 | 01/11/2005
56,335 | Takata Seat Belts, Inc. (Wkrs) | San Antonio, TX | 01/13/2005 | 01/11/2005
56,336 | Graco Children's Products, Inc. (Comp) | Elverson, PA | 01/13/2005 | 01/11/2005
56,337 | Sock Company (The) (Wkrs) | Ft. Payne, AL | 01/13/2005 | 01/05/2005
56,338 | Wellington Cordage, LLC (Comp) | Eatonton, GA | 01/13/2005 | 01/09/2005
56,339 | Mastercraft Fabrics, LLC (Comp) | Cramerton, NC | 01/13/2005 | 01/12/2005
56,340 | Keller Furniture, Inc. (NPW) | Louisville, KY | 01/13/2005 | 01/11/2005
56,341 | Kaysam Worldwide (State) | Totowa, NJ | 01/14/2005 | 01/14/2005
56,342 | Electric Mobility (State) | Sewell, NJ | 01/14/2005 | 01/14/2005
56,343 | Dorby Group (Wkrs) | New York, NY | 01/14/2005 | 12/21/2004
56,344 | Eagle Picher (Comp) | Manchester, TN | 01/14/2005 | 01/12/2005
56,345 | Kohler Company (State) | Searcy, AR | 01/14/2005 | 01/13/2005
56,346 | RPI, Inc. (Comp) | Prudenville, MI | 01/18/2005 | 01/06/2005
56,347 | Auburn Hosiery Mills, Inc. (Comp) | Auburn, Ky | 01/18/2005 | 01/03/2005
56,348 | Holt Hosiery Mills, Inc. (Comp) | Willard, NC | 01/18/2005 | 01/14/2005
56,349 | Alexis Play Safe, Inc. (Comp) | Gainesville, GA | 01/18/2005 | 01/14/2005
56,350 | Woodbridge Corporation (Comp) | Whitmore Lake, MI | 01/19/2005 | 01/18/2005
56,351 | Avanex Corporation (Comp) | Painted Poste, NY | 01/19/2005 | 01/19/2005
56,352 | Hydro Gate Corp. (State) | Commerce City, CO | 01/19/2005 | 12/20/2004
56,353 | Lear (Wkrs) | Marshall, MI | 01/19/2005 | 01/13/2005
56,354 | Flambeau, Inc. (Wkrs) | Baraboo, WI | 01/19/2005 | 01/14/2005
56,355 | Graham Steel Corp. (Wkrs) | Kirkland, WA | 01/19/2005 | 01/14/2005
56,356 | Eaton Corporation (Wkrs) | Roxboro, NC | 01/19/2005 | 01/18/2005
56,357 | WestPoint Stevens, Inc, (Comp) | Middletown, IN | 01/19/2005 | 01/19/2005
56,358 | Tranzonic Companies (The) (Comp) | Cleveland, OH | 01/19/2005 | 12/20/2004
56,359 | Chace Leather Products (Wkrs) | Montgomery, PA | 01/19/2005 | 01/13/2005
56,360 | Wrigley Manufacturing Co., LLC (Comp) | Phoenix, AZ | 01/19/2005 | 01/18/2005
56,361 | Hedstrom Corporation (Wkrs) | Arlington Hgts., IL | 01/19/2005 | 01/12/2005
56,362 | Aetna US Healthcare (NPS) | Tewksbury, MA | 01/19/2005 | 01/18/2005
56,363 | Occidental Chemical Corp. (USWA) | Pottstown, PA | 01/19/2005 | 01/18/2005
56,364 | Dunmore Furniture (Wkrs) | Hickory, NC | 01/19/2005 | 01/14/2005
56,365 | Glad Manufacturing (A Clorox Co.) (PACE) | Cartersville, GA | 01/19/2005 | 01/13/2005
56,366 | Singulus Technologies, Inc. (Wkrs) | Irvine, CA | 01/21/2005 | 12/17/2004
56,367 | Columbus Industries (State) | El Paso, TX | 01/21/2005 | 12/21/2004
56,368 | EI Dupont/Invista/Kock Industries (Wkrs) | Victoria, TX | 01/21/2005 | 01/11/2005
56,369 | Tower Automotive (Comp) | Milwaukee, WI | 01/21/2005 | 01/19/2005
56,370 | Meridian Automotive Systems (State) | Dearborn, MI | 01/21/2005 | 12/29/2004
56,371 | Springs Industries (Comp) | Ellijay, GA | 01/21/2005 | 01/05/2005
56,372 | DyStar LP (Comp) | Charlotte, NC | 01/21/2005 | 01/20/2005
56,373 | Halo Holdings LC (State) | Hialeah, FL | 01/21/2005 | 01/19/2005
56,374 | Napco Window Systems (USWA) | Sarver, PA | 01/21/2005 | 01/19/2005
56,375 | Cooper Power Systems (State) | Fayetteville, AR | 01/21/2005 | 01/20/2005
56,376 | Blue Mountain Wall Coverings (Comp) | Knoxville, TN | 01/21/2005 | 01/17/2005
56,377 | Culp Weaving (Wkrs) | Pageland, SC | 01/21/2005 | 01/20/2005
56,378 | Masonite Door Corporation (Comp) | Richmond, IN | 01/21/2005 | 01/20/2005
56,379 | Pride Manufacturing Co., LLC (Comp) | Florence, WI | 01/21/2005 | 01/19/2005
56,380 | Watermark Paddlesports, Inc. (Comp) | Arcata, CA | 01/21/2005 | 01/18/2005
56,381 | Dorby Frocks (NPS) | Medley, FL | 01/21/2005 | 01/20/2005
56,382 | Paxar Corporation (Comp) | Hillsville, VA | 01/24/2005 | 01/19/2005
56,383 | CFM (Wkrs) | Joplin, MO | 01/24/2005 | 12/28/2004
56,384 | Valley Knit (Comp) | Fort Payne, AL | 01/24/2005 | 01/21/2005
56,385 | Cushion Craft Biederlack Corporation (Comp) | Lisbon Falls, ME | 01/24/2005 | 01/19/2005
56,386 | Eagle Family Foods (UFCW) | Wellsboro, PA | 01/24/2005 | 01/06/2005
56,387 | Long Manufacturing (Comp) | Sheffield, PA | 01/24/2005 | 01/17/2005
56,388 | WestPoint Stevens Inc. (Comp) | Daleville, IN | 01/24/2005 | 01/19/2005
56,389 | Coats American (Comp) | Marion, NC | 01/25/2005 | 01/21/2005
56,390 | Elmo Technologies LP (Comp) | Fort Worth, TX | 01/25/2005 | 01/03/2005
56,391 | AVX Corporation (USWA) | Raleigh, NC | 01/25/2005 | 01/24/2005
56,392 | Weyerhaeuser (Comp) | Sweet Home, OR | 01/25/2005 | 01/24/2005
56,393 | Morgan A.M.T., Carbon Technology (Comp) | Exeter, RI | 01/25/2005 | 01/13/2005
56,394 | BBB Industries (State) | Mira Loma, CA | 01/25/2005 | 01/19/2005
56,395 | XALOY (Comp) | New Castle, PA | 01/26/2005 | 01/14/2005
56,396 | Goodyear Tire and Rubber Corp. (State) | Lincoln, NE | 01/26/2005 | 12/23/2005
56,397 | Bath Unlimited (Wkrs) | RanchoDominquez, CA | 01/26/2005 | 01/20/2005
56,398 | Libbey Glass, Inc. (USWA) | Walnut, CA | 01/27/2005 | 01/11/2005
56,399 | Stillman Seals (UNITE) | Carlsbad, CA | 01/27/2005 | 01/07/2005
56,400 | Sprint (State) | Wake Forest, NC | 01/27/2005 | 01/21/2005
56,401 | Neat Feet Hosiery, Inc. (Comp) | Stoneville, NC | 01/27/2005 | 01/18/2005
56,402 | Metal Forming Technologies, Inc. (Wkrs) | Burton, MI | 01/27/2005 | 01/14/2005
56,403 | Kulicke and Soffa Industries (Wkrs) | Willow Grove, PA | 01/27/2005 | 01/14/2005
56,404 | Dunlop (Wkrs) | Westminister, SC | 01/27/2005 | 01/15/2005
56,405 | Nagel U.S. Hanger (Comp) | Caldwell, TX | 01/27/2005 | 01/13/2005
56,406 | J-Star Bodco, Inc. (NPC) | Fort Atkinson, WI | 01/27/2005 | 01/26/2005
56,407 | MeadWestvaco Corp. (Comp) | Laurel, MD | 01/27/2005 | 01/26/2005
56,408 | Emerson White (Comp) | St. Louis, MO | 01/27/2005 | 01/25/2005
56,409 | Daikin Clutch Corp. (State) | Belleville, MI | 01/27/2005 | 01/24/2005
56,410 | Amalgamated Sugar Co. (BCTGM) | Nyssa, OR | 01/27/2005 | 01/25/2005
56,411 | Bayer Corp. Business Services BCBS (NPW) | West Haven, CT | 01/27/2005 | 01/24/2005
56,412 | Tiro Industries (State) | Fridley, MN | 01/27/2005 | 01/25/2005
56,413 | Electra Gear (State) | Anaheim, CA | 01/27/2005 | 01/25/2005
56,414 | Ego Beltex, LLC (Wkrs) | Belmont, NC | 01/27/2005 | 01/21/2005
56,415 | Osram Sylvania (Comp) | Lake Zurich, IL | 01/27/2005 | 01/21/2005
56,416 | Corning Gilbert (State) | Glendale, AZ | 01/27/2005 | 01/25/2005
56,417 | Pride Manufacturing Co. (State) | Guilford, ME | 01/28/2005 | 01/19/2005
56,418 | Pfaltzgraft Company (Comp) | Thomasville, PA | 01/28/2005 | 01/27/2005
56,419 | Schneider Electric (Comp) | Oxford, OH | 01/28/2005 | 01/27/2005
56,420 | Tyco Electronics (Comp) | Carlisle, PA | 01/28/2005 | 01/19/2005
56,421 | Crane Pumps and Systems (Comp) | Salem, OH | 01/28/2005 | 01/25/2005
56,422 | Johnson Controls, Inc. (Comp) | Glasgow, KY | 01/28/2005 | 01/25/2005
56,423 | Performance, Inc. (Comp) | Graham, NC | 01/28/2005 | 01/26/2005
56,424 | Entran Devices, Inc. (State) | Fairfield, NJ | 01/28/2005 | 01/28/2005
56,425 | Avalanche Industries (Comp) | Colorado Spring, CO | 01/28/2005 | 01/27/2005
56,426 | General Chemical Group (Comp) | Manistee, MI | 01/28/2005 | 01/25/2005
56,427 | Ja-Mar Apparel Mfg. Co., Inc. (State) | Irwindale, CA | 01/28/2005 | 01/21/2005
56,428 | Magneti Marelli Powertrain-USA, LLC (Comp) | Farmington Hills, MI | 01/28/2005 | 01/03/2005
56,429 | Jowett Garments (Wkrs) | S. El Monte, CA | 01/28/2005 | 01/21/2005
56,430 | QAP, Inc. (Wkrs) | W. New York, NJ | 01/28/2005 | 01/27/2005
56,431 | Kennedy Die Castings, Inc. (Comp) | Worcester, MA | 01/28/2005 | 01/03/2005
56,432 | Freescale Semiconductor, Inc. (Wkrs) | Tempe, AZ | 01/31/2005 | 01/24/2005
56,433 | Armstrong World Industries, Inc. (USWA) | Lancaster, PA | 01/31/2005 | 01/27/2005
56,434 | Metso Minerals Industries, Inc. (Comp) | Keokuk, IA | 01/31/2005 | 01/27/2005
56,435 | Nagle Industries (IAM) | Cumberland City, TN | 01/31/2005 | 01/28/2005
56,436 | Bauhaus (State) | Belmont, MS | 01/31/2005 | 01/11/2005
56,437 | Assem-tech., Inc. (State) | Grand Haven, MI | 01/31/2005 | 01/20/2005
56,438 | HiTech Comact (State) | Hot Springs, AR | 01/31/2005 | 01/27/2005
56,439 | Dietrich Industries (Wkrs) | Hammond, IN | 01/31/2005 | 01/28/2005
56,440 | Bailey Knit Corp. (Comp) | Fort Payne, AL | 01/31/2005 | 01/26/2005
56,441 | Lusero Corp. (Comp) | Longmont, CO | 01/31/2005 | 01/28/2005
56,442 | Laurent Leather (Wkrs) | Newton, NC | 01/31/2005 | 01/19/2005
56,443 | CM Products Company (The) (Comp) | Manchester, TN | 01/31/2005 | 01/27/2005
56,444 | JDS Uniphase Corporation (Comp) | Melbourne, FL | 01/31/2005 | 01/28/2005
56,445 | International Apparel Group (Comp) | Allendale, SC | 01/31/2005 | 01/28/2005
56,446 | Old Mother Hubbard (Comp) | Lowell, MA | 01/31/2005 | 01/26/2005
56,447 | BASF Corporation (Comp) | Morganton, NC | 02/01/2005 | 01/31/2005
56,448 | LM Services, LLC (Wkrs) | Cumberland, MD | 02/01/2005 | 01/27/2005
56,449 | Fisher Scientific Co. (Comp) | Indiana, PA | 02/01/2005 | 01/31/2005
56,450 | Quality Apparel, Inc. (Comp) | Dillon, SC | 02/01/2005 | 01/19/2005
56,451 | Allow Engineering and Casting Co. (Comp) | Champaign, IL | 02/01/2005 | 01/29/2005
56,452 | Sanmina—SCI Corporation (State) | San Jose, CA | 02/01/2005 | 01/31/2005
56,453 | Southwestern Bell (Wkrs) | Jonesboro, AR | 02/01/2005 | 01/11/2005
56,454 | G.E. Aircraft Engines Services (Wkrs) | Dallas, TX | 02/01/2005 | 01/27/2005
56,455 | Xsensible Footwear North America (Wkrs) | Hickory, NC | 02/01/2005 | 01/17/2005
56,456 | Parker Cone Co., Inc. (Comp) | Maiden, NC | 02/01/2005 | 01/18/2005
56,457 | Swenco Co—Posi Products (State) | Poplar Bluff, MO | 02/01/2005 | 01/24/2005
56,458 | Arthur G. Russell Co., Inc. (The) (Comp) | Bristol, CT | 02/01/2005 | 02/01/2005
56,459 | MMG Corporation (UNITE) | St. Louis, MO | 02/01/2005 | 02/01/2005
56,460 | Ameriwood (UNITE) | Wright City, MO | 02/01/2005 | 01/28/2005

[FR Doc. E5-697 Filed 2-22-05; 8:45 am]

BILLING CODE 4510-30-P